DEPARTMENT OF ENERGY

Office of Arms Control and Nonproliferation; Proposed Subsequent Arrangement

AGENCY: Department of Energy.

ACTION: Subsequent arrangement.

SUMMARY: This notice has been issued under the authority of Section 131 of the Atomic Energy Act of 1954, as amended (42 U.S.C. 2160). The Department is providing notice of a proposed “subsequent arrangement” under the Agreement for Cooperation in the Peaceful Uses of Nuclear Energy between the United States and the European Atomic Energy Community (EURATOM) and the Agreement for Cooperation Between the United States and Japan Concerning Peaceful Uses of Nuclear Energy.

This subsequent arrangement concerns the retransfer of 594.94 grams of U.S.-origin uranium (2.26 grams U-235) and 7.04 grams plutonium from Studsvik Research Center, Nykoping, Sweden, to the Japan Atomic Energy Research Institute (JAERI). The nuclear material being retransferred is contained in segments of reactor fuel rods cut out at the Studsvik Hot Cell Laboratory for analysis of the burn up rates by JAERI. The analysis will support the Studsvik development of a database of information regarding how uranium oxide and mixed-oxide (MOX) react at high burn-up rates.

These material segments will undergo post-irradiation examination at JAERI, which will take ownership of the material when the transport leaves Studsvik. Upon completion of the analysis, the material will be handled as waste and stored in Japan.

In accordance with section 131 of the Atomic Energy Act of 1954, as amended, we have determined that this subsequent arrangement is not inimical to the common defense and security.

This subsequent arrangement will take effect no sooner than fifteen days after the date of publication of this notice.

For the Department of Energy.
Kurt Siemon,
Acting Director, Office of Nonproliferation Policy.

[FR Doc. 04-14684 Filed 6-25-04; 8:45 am]

BILLING CODE 6450-01-P